DEPARTMENT OF THE INTERIOR

Bureau of Land Management

[LLORW00000 L51010000.ER0000 LVRWH09H0570 14XL5017AP; HAG-14-0191]

WAOR65753; Notice of Availability of the Supplemental Draft Environmental Impact Statement for the Proposed Vantage to Pomona Heights 230 kV Transmission Line Project in Benton, Grant, Kittitas, and Yakima Counties, Washington

AGENCY: Bureau of Land Management, Interior.

ACTION: Notice of availability.

SUMMARY: In accordance with the National Environmental Policy Act of 1969, as amended, the Bureau of Land Management (BLM) has prepared a Supplemental Draft Environmental Impact Statement (EIS) for the Vantage to Pomona Heights 230 kV Transmission Line Project and, by this notice, is announcing the opening of the comment period.

DATES: To ensure that comments will be considered, the BLM must receive written comments on the Supplemental Draft EIS for the Vantage to Pomona Heights 230 kV Transmission Line Project within 45 days following the date the Environmental Protection Agency publishes its Notice of Availability in the Federal Register. The BLM will announce future meetings or hearings and any other public involvement activities at least 15 days in advance through public notices, media releases, and/or mailings.

ADDRESSES: You may submit comments related to the Vantage to Pomona Heights 230 kV Transmission Line Project by any of the following methods:

• Web site: http://www.blm.gov/or/districts/spokane/plans/vph230.php.

• Email: blm_or_vantage_pomona@blm.gov (please reference Vantage to Pomona Heights Supplemental Draft EIS in the subject line).

• Fax: 509-536-1275 Attn: Vantage to Pomona Heights Supplemental Draft EIS Project Manager.

• Mail to: Spokane District, Records Manager, 1103 North Fancher Road, Spokane, Washington 99212, Attn: Vantage to Pomona Heights Supplemental Draft EIS.

• Hand-deliver to: BLM Wenatchee Field Office, Attn: Vantage to Pomona Heights Supplemental Draft EIS, 915 Walla Walla Avenue, Wenatchee, Washington 98801-1521, between 8:00 a.m. and 4:00 p.m. Monday through Friday, excluding Federal holidays.

Copies of the Supplemental Draft EIS for the Vantage to Pomona Heights 230 kV Transmission Line Project, as well as copies of the January 2013 DEIS, are available in the BLM Wenatchee Field Office at the above address and electronically at the following Web site: http://www.blm.gov/or/districts/spokane/plans/vph230.php.

FOR FURTHER INFORMATION CONTACT: Vantage to Pomona Heights Supplemental Draft EIS Project Manager; telephone, 509-665-2100; address, BLM Wenatchee Field Office, 915 Walla Walla Avenue, Wenatchee, Washington 98801-1521; email, blm_or_vantage_pomona@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The project proponent, Pacific Power, filed Federal applications for rights-of-way with the BLM, the U.S. Department of Defense Joint Base Lewis McChord Yakima Training Center (JBLM YTC), and the U.S. Bureau of Reclamation (Reclamation) for construction, operation, and maintenance of a 230-kilovolt (kV) transmission line from Pacific Power's Pomona Heights Substation located east of Selah, Washington, in Yakima County to the Bonneville Power Administration (BPA) Vantage Substation located just east of the Wanapum Dam in Grant County, Washington. The project proponent's interest in the new line is to enhance overall operating flexibility and security of the regional transmission grid and to improve system reliability in the Yakima Valley.

On January 4, 2013, the BLM released a Draft EIS for public review and comment. As a result of the comments received at public meetings and submitted in writing during the Draft EIS comment period, the BLM, Pacific Power, and the JBLM YTC met and identified a New Northern Route Alternative that is located largely on JBLM YTC land. The BLM therefore decided to prepare a Supplemental Draft EIS to fully describe the New Northern Route Alternative, analyze the direct, indirect, and cumulative impacts associated with this alternative, and describe mitigation measures that could avoid, minimize, or reduce impacts. The Supplemental Draft EIS focuses the analysis on the New Northern Route Alternative as well as any significant new circumstances or information that has become available since the January 2013 publication of the Draft EIS. New information that has been incorporated into the Supplemental Draft EIS is primarily related to Greater Sage-Grouse, a Candidate species under the Endangered Species Act. Following publication of the Draft EIS, the U.S. Fish and Wildlife Service (USFWS) Conservation Objectives Team (COT) published the Greater Sage-grouse Conservation Objectives: Final Report (COT Report). A key component of the COT Report is the identification of Priority Areas of Conservation (PACs), which are considered key habitats essential for Greater Sage-Grouse conservation. The COT Report identifies four PACs within the state of Washington, two of which have extant populations, Moses Coulee and Yakima Training Center. With the exception of a small portion of the New Northern Route Alternative, the Project is located entirely within the Yakima Training Center PAC. The impact analysis for Sage-Grouse was expanded in the Supplemental Draft EIS to address USFWS and Washington Department of Fish and Wildlife (WDFW) concerns regarding sage-grouse and to incorporate information from the COT Report and the Yakima Training Center PAC. In addition, the Supplemental Draft EIS analyzed two identified areas (approximately 10 miles in total length) with both an Overhead and an Underground Design Option to address wildlife agency concerns regarding impacts to sage-grouse.

The BLM remains the lead Federal agency and, along with the Cooperating Agencies, is responsible for analyzing the effects of Pacific Power's right-of-way applications to construct, operate, and maintain a 230 kV transmission line, associated access roads, and other ancillary facilities. The JBLM YTC, Reclamation, BPA, Federal Highway Administration (FHWA), USFWS, Washington Department of Natural Resources (DNR), Washington Department of Transportation (WSDOT), and Kittitas and Yakima Counties are Cooperating Agencies and assisted with the preparation of the Supplemental Draft EIS.

As preliminarily designed by Pacific Power and analyzed in the Draft EIS and the Supplemental DEIS, most of the proposed transmission line would be constructed on H-frame wood pole structures between 65 and 90 feet tall and spaced approximately 650 to 1,000 feet apart, depending on terrain. In developed or agricultural areas, single wood or steel monopole structures would be used. The single pole structures would be between 80 and 110 feet tall and spaced approximately 400 to 700 feet apart. The right-of-way width for the H-frame structure type would be between 125 to 150 feet and, for the single pole structure type, between 75 to 100 feet. For the Columbia River crossing, steel lattice structures approximately 200 feet tall would be used to safely span the up to 2,800-foot crossing.

The Supplemental Draft EIS considers three alternatives: No Action, New Northern Route Alternative, and the Draft EIS Agency Preferred Alternative. The New Northern Route Alternative is 41 miles in length and includes one potential subroute section and analyzes two identified areas (approximately 10 miles in total length) with both an Overhead and an Underground Design Option to address wildlife agency concerns regarding impacts to sage-grouse. The New Northern Route Alternative crosses Federal land managed by the BLM, the JBLM YTC, and Reclamation; State land managed by the WSDOT and the WDNR; and Yakima, Kittitas, and Grant Counties. The Supplemental Draft EIS also identifies mitigation measures to avoid, minimize, or reduce impacts for the New Northern Route Alternative. To minimize the amount and significance of impacts from the proposed Project to sage-grouse, a Framework for the Development of a Sage-grouse Habitat Mitigation Plan is currently being developed by the project's Sage-grouse Subgroup which is comprised of wildlife biologists representing the USFWS, WDFW, JBLM YTC, and BLM. This framework will provide the basis for the project proponent to prepare a Sage-grouse Habitat Mitigation Plan which will provide an overview of impacts and proposed sage-grouse compensatory mitigation actions for the project. The draft “Vantage to Pomona Heights 230 kV Transmission Line Project Framework for Development of a Sage-Grouse Habitat Mitigation Plan” is included as an appendix to the Supplemental Draft EIS.

The BLM will continue to use the National Environmental Policy Act (NEPA) public participation requirements to assist the agency in satisfying the public involvement requirements under Section 106 of the National Preservation Act (NHPA) (16 U.S.C. 470(f)) pursuant to 36 CFR 800.2(d)(3). The information about historic and cultural resources within the area potentially affected by the proposed Vantage to Pomona Heights 230 kV Transmission Line Project will continue to assist BLM in identifying and evaluating impacts to such resources in the context of both NEPA and Section 106 of the NHPA.

The BLM will continue to consult with Indian tribes on a government-to-government basis in accordance with Executive Order 13175 and other policies. Tribal concerns, including impacts to trust assets and potential impacts to cultural resources, will be given due consideration. Federal, state, and local agencies, along with tribes and other stakeholders that may be interested in or affected by the proposed Vantage to Pomona Heights 230 kV Transmission Line Project were invited to participate in the scoping process and comment on the Draft EIS.

The BLM has consulted with the federally recognized Yakama Nation and the Colville Confederated Tribes and with the non-federally recognized Wanapum Band of Indians. BLM continues to work with the state and federal agencies and consulting tribes regarding development of a Programmatic Agreement (PA) that outlines how the federal agencies will comply with Section 106 for this undertaking, the draft PA is included as an appendix to the Supplemental Draft EIS.

Major issues brought forward during the scoping process that were addressed in the Draft EIS and carried forward in the Supplemental Draft EIS include:

• Land use conflicts and effects on agricultural operations and property values

• Effects on wildlife habitat, plants, and animals including threatened, endangered, and sensitive species (especially sage-grouse)

• Potential effects to JBLM YTC military training operations

• Effects to visual resources and existing view sheds

• Effects to cultural resources

• Effects to soils and water from surface-disturbing activities

• Social and economic effects

• Management and control of invasive plant species

• Public health and safety

The Supplemental Draft EIS analysis identified several advantages associated with the New Northern Route Alternative and they include:

• Reduced overall transmission line length; approximately 22-miles shorter than the DEIS Agency Preferred Alternative. The reduced transmission line length provides reduced resource impacts for several issues compared to the original DEIS Agency Preferred Alternative.

• Reduced overall transmission line length across non-federal lands; The New Northern Route Alternative occurs primarily on federal lands and therefore has less impacts on land use, public health and safety, and other issues compared to the DEIS Agency Preferred Alternative.

• Reduced overall disturbance footprint; the New Northern Route Alternative is consolidated in an existing transmission line corridor (approximately 200-foot centerline-to-centerline separation) for the majority of the proposed routing. The reduced disturbance foot-print thus reduced resource impacts such as impacts to wildlife habitat (especially Sage-Grouse), military training, soils, water resources, invasive species spread, and others issues compared to the DEIS Agency Preferred Alternative.

Before including your address, phone number, email address, or other personal identifying information in your comment, you should be aware that your entire comment—including your personal identifying information—may be made publicly available at any time. While you can ask us in your comment to withhold your personal identifying information from public review, we cannot guarantee that we will be able to do so. Please note that public comments and information submitted, including names, street addresses, and email addresses of persons who submit comments, will be available for public review and disclosure at the above address during regular business hours (8 a.m. to 4 p.m.), Monday through Friday, except holidays.

Authority: 40 CFR 1506.6, 40 CFR 1506.10.

Daniel C. Picard,
Spokane District Manager.

[FR Doc. 2014-30597 Filed 12-31-14; 8:45 am]

BILLING CODE 4310-33-P